ENVIRONMENTAL PROTECTION AGENCY

40 CFR Part 63

[EPA-HQ-OAR-2010-0895; FRL-9919-15-OAR]

RIN 2060-AQ11

National Emission Standards for Hazardous Air Pollutants: Ferroalloys Production; Extension of Comment Period

AGENCY: Environmental Protection Agency.

ACTION: Supplemental notice of proposed rulemaking; extension of public comment period.

SUMMARY: The Environmental Protection Agency (EPA) is announcing that the period for providing public comments on the October 6, 2014, supplemental proposed rule titled “National Emission Standards for Hazardous Air Pollutants: Ferroalloys Production” is being extended for 18 days.

DATES: Comments. The public comment period for the supplemental proposed rule published in the Federal Register on October 6, 2014, (79 FR 60238) is being extended for 18 days to December 8, 2014, in order to provide the public additional time to submit comments and supporting information. The EPA received a request for an extension from Eramet Marietta, Incorporated and Felman Production, LLC in order to gather and analyze data and formulate their comments on the supplemental proposed amendments.

ADDRESSES: Comments. Written comments on the supplemental proposed rule may be submitted to EPA electronically, by mail, by facsimile or through hand delivery/courier. Please refer to the supplemental proposal (79 FR 60238) for the addresses and detailed instructions.

Docket. Publicly available documents relevant to this action are available for public inspection either electronically at: http://www.regulations.gov or in hard copy at the EPA Docket Center, Room 3334, 1301 Constitution Avenue NW., Washington, DC. The Public Reading Room is open from 8:30 a.m. to 4:30 p.m., Monday through Friday, excluding legal holidays. A reasonable fee may be charged for copying. The official public docket for this rulemaking is Docket No. EPA-HQ-OAR-2010-0895.

World Wide Web. The EPA Web site for this rulemaking is at: http://www.epa.gov/ttn/atw/ferroa/ferropg.html.

FOR FURTHER INFORMATION CONTACT: Mr. Phil Mulrine, Metals and Inorganic Chemicals Group (D243-02), Sector Policies and Programs Division, Office of Air Quality Planning and Standards, U.S. Environmental Protection Agency, Research Triangle Park, North Carolina 27711; Telephone number: (919) 541-5289; Fax number (919) 541-3207; Email address: mulrine.phil@epa.gov.

SUPPLEMENTARY INFORMATION:

Comment Period

After considering the requests received from Eramet Marietta, Incorporated and Felman Production, LLC to extend the public comment period, the EPA has decided to extend the public comment period for an additional 18 days. Therefore, the public comment period will end on December 8, 2014, rather than November 20, 2014. This extension will help ensure that the public has sufficient time to review the proposed rule and the supporting technical documents and data available in the docket.

List of Subjects in 40 CFR Part 63

Air pollution control, Environmental protection, Hazardous substances, Incorporation by reference, Reporting and recordkeeping requirements.

Dated: November 5, 2014.
Mary E. Henigin,
Acting Director, Office of Air Quality Planning and Standards.

[FR Doc. 2014-27009 Filed 11-13-14; 8:45 am]

BILLING CODE 6560-50-P